DEPARTMENT OF TRANSPORTATION

Federal Aviation Administration

14 CFR Part 39

[Docket No. 2004-SW-03-AD; Amendment 39-13841; AD 2004-22-13]

RIN 2120-AA64

Airworthiness Directives; Bell Helicopter Textron Canada Model 206L-1 and 206L-3 Helicopters

AGENCY: Federal Aviation Administration, DOT.

ACTION: Final rule.

SUMMARY: This amendment adopts a new airworthiness directive (AD) for the specified Bell Helicopter Textron Canada (Bell) model helicopters that requires a one-time inspection of the adjustable stop screws of the magnetic brake assembly; repairing, as appropriate, certain mechanical damage to the cyclic and collective flight control magnetic brake arm assembly (arm assembly), if necessary; and installing the stop screw with the proper adhesive, adjusting the arm assembly travel and applying slippage marks. This amendment is prompted by reports that the magnetic brake adjustable screws have backed out, which limited travel of the arm assembly. The actions specified by this AD are intended to detect loose adjustable stop screws, that could result in limiting the travel of the cyclic and collective arm assembly, and subsequent loss of control of the helicopter.

DATES: Effective December 7, 2004.

The incorporation by reference of certain publications listed in the regulations is approved by the Director of the Federal Register as of December 7, 2004.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION: A proposal to amend 14 CFR part 39 to include an AD for the specified model helicopters was published in the Federal Register on May 12, 2004 (69 FR 26325). That action proposed to require within 100 hours time-in-service or within 90 days, whichever occurs first, and before installation of an affected magnetic brake, a one-time inspection of the adjustable stop screws of the magnetic brake assembly; repairing, as appropriate, certain mechanical damage to the arm assembly, if necessary; and installing the stop screw with the proper adhesive, adjusting the arm assembly travel and applying slippage marks.

Transport Canada, the airworthiness authority for Canada, notified the FAA that an unsafe condition may exist on Bell Model 206L-1 and 206L-3 helicopters with Instrument Flight Rule (IFR) Kit, part number (P/N) 206-705-001, -101, or -103, installed, and all delivered spare magnetic brakes, P/N 204-001-376-003, manufactured by Memcor Truohm, Inc. as P/N MP 498-3. Transport Canada advises that the stop screws, P/N MS51959-3, of the magnetic brake, P/N 204-001-376-003 (Memcor Truohm P/N MP 498-3), were installed without the proper adhesive.

Bell has issued Alert Service Bulletin (ASB) No. 206L-01-122, dated October 3, 2001, which specifies a one-time inspection of the magnetic brake adjustable stop screw, P/N MS51959-3; repairing any arm assembly mechanical damage created by the screws; and installing the stop screw with the proper adhesive and adjusting the arm assembly shaft travel. Transport Canada classified this alert service bulletin as mandatory and issued AD No. CF-2002-16, dated March 4, 2002, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

Interested persons have been afforded an opportunity to participate in the making of this amendment. No comments were received on the proposal or the FAA's determination of the cost to the public. The FAA has determined that air safety and the public interest require the adoption of the rule as proposed.

The FAA estimates that 577 helicopters of U.S. registry will be affected by this AD, that it will take approximately 3 work hours per helicopter to accomplish the required actions, and that the average labor rate is $65 per work hour. Required parts will cost approximately $3,785. Based on these figures, the total cost impact of this AD on U.S. operators is estimated to be $298,500, assuming that 75 helicopters in the U.S. will require the actions described in this AD.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-22-13 Bell Helicopter Textron Canada: Amendment 39-13841. Docket No. 2004-SW-03-AD.

Applicability: Model 206L-1 and 206L-3 helicopters with Instrument Flight Rule (IFR) Kit, part number (P/N) 206-705-001, -101, or -103, and a magnetic brake, P/N 204-001-376-003, manufactured by Memcor Truohm, Inc. (M.T. Inc.) as P/N MP 498-3, installed, certificated in any category.

Compliance: Required within 100 hours time-in-service or 90 days, whichever occurs first, and before installation of any affected magnetic brake, unless accomplished previously.

To detect loose adjustable stop screws, which could result in limiting the travel of the cyclic and collective arm assembly, and subsequent loss of control of the helicopter, accomplish the following:

(a) Inspect and, if necessary, repair, adjust, and apply slippage marks to the magnetic brake assembly by following the Accomplishment Instructions, paragraphs 6. through 12., in Bell Helicopter Textron Alert Service Bulletin (ASB) No. 206L-01-122, dated October 3, 2001, except if damage to the arm assembly exceeds 0.030 inch (0.762 mm), replace the magnetic brake assembly with an airworthy magnetic brake assembly. Contacting the manufacturer is not required.

(b) To request a different method of compliance or a different compliance time for this AD, follow the procedures in 14 CFR 39.19. Contact the Safety Management Group, Rotorcraft Directorate, FAA, for information about previously approved alternative methods of compliance.

(c) The inspection and, if necessary, the modification shall be done in accordance with Bell Helicopter Textron Alert Service Bulletin No. 206L-01-122, dated October 3, 2001. The Director of the Federal Register approved this incorporation by reference in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(d) This amendment becomes effective on December 7, 2004.

Note: The subject of this AD is addressed in Transport Canada (Canada) AD No. CF-2002-16, dated March 4, 2002.

Issued in Fort Worth, Texas, on October 22, 2004.
David A. Downey,
Manager, Rotorcraft Directorate, Aircraft Certification Service.

[FR Doc. 04-24225 Filed 11-1-04; 8:45 am]

BILLING CODE 4910-13-P